Proclamation 8043 of August 25, 2006

National Day of Remembrance of Hurricane Katrina, 2006

By the President of the United States of America

A Proclamation

One year ago, a vast coastline of towns and communities was virtually destroyed; one of America's great cities was submerged; and many lives were lost in one of the worst natural disasters in our Nation's history. On this National Day of Remembrance of Hurricane Katrina, we honor those who did not survive the fury of the storm and those who continue to put their lives back together in its aftermath. We also remember the heroism of ordinary citizens who touched our hearts with their bravery and compassion and moved our whole Nation to action.

Hurricane Katrina brought many days of struggle and sorrow; yet, we also witnessed extraordinary acts of courage and kindness. Rescue workers, other first responders, and concerned citizens from around the country risked their lives to save others and performed heroically under the most difficult of circumstances. Many were victims themselves, acting on a sense of duty greater than their own suffering. Men, women, and children across America rallied to help their neighbors in desperate need, providing food, water, shelter, and hope to the victims of Hurricane Katrina. Those days tested our Nation, and they revealed a resilience more powerful than any storm.

Millions of lives were changed in a day by that cruel and destructive storm. America accepted the challenge to restore broken communities and disrupted lives not as a burden, but as our responsibility to help our fellow citizens. Victims and volunteers continue to demonstrate a spirit that cannot be broken—a core of strength that survives all hurt, a faith in God that no storm can take away, and an unyielding determination to clear the wreckage and build anew.

In the past year, Federal, State, and local governments have worked to enhance our Nation's ability to prepare for and respond to natural disasters. The Federal Government has conducted an extensive review of preparedness and response efforts, and actions are being taken at every level to improve communications and coordination and strengthen emergency response capabilities. The American people can know that our government is working hard to be prepared to protect life and property should we face another such challenge.

In the life of our Nation, we have often been reminded that nature is an awesome force, and that all life is fragile. However, Americans have always summoned the will and compassion to persevere and rebuild. Guided by our enduring American spirit, we know that a bright new dawn will rise over the great city of New Orleans, and the entire Gulf Coast region will reemerge stronger and more vibrant than ever.

NOW, THEREFORE, I, GEORGE W. BUSH, President of the United States of America, by virtue of the authority vested in me by the Constitution and laws of the United States, do hereby proclaim August 29, 2006, as a National Day of Remembrance of Hurricane Katrina. I call upon State and local governments, places of worship, and all Americans to mark this day with services and appropriate observances. I also encourage all Americans to remember and support the continued effort to rebuild our Nation's great Gulf Coast.

IN WITNESS WHEREOF, I have hereunto set my hand this twenty-fifth day of August, in the year of our Lord two thousand six, and of the Independence of the United States of America the two hundred and thirty-first.

[FR Doc. 06-7374

Filed 8-29-06; 9:10 am]

Billing code 3195-01-P